FEDERAL COMMUNICATIONS COMMISSION

Federal Advisory Committee Act; Independent Panel Reviewing the Impact of Hurricane Katrina on Communications Networks

AGENCY: Federal Communications Commission.

ACTION: Notice of public meeting.

SUMMARY: In accordance with the Federal Advisory Committee Act, this notice advises interested persons that the Federal Communications Commission's (FCC) Independent Panel Reviewing the Impact of Hurricane Katrina on Communications Networks (“Independent Panel” or “Panel”) will hold its next meeting on May 12, 2006 at 10 a.m. at the Commission Meeting Room of the FCC, 445 12th Street, SW., Room TW-C305, Washington, DC 20554.

DATES: May 12, 2006 at 10 a.m.

ADDRESSES: Commission Meeting Room, FCC, 445 12th Street, SW., Room TW-C305, Washington, DC 20554.

FOR FURTHER INFORMATION CONTACT: Lisa M. Fowlkes, Designated Federal Officer of the FCC's Independent Panel at 202-418-7452 or e-mail: lisa.fowlkes@fcc.gov.

SUPPLEMENTARY INFORMATION: The Panel will discuss possible issues, findings and recommendations to be included in its Final Report which is due to the Commission by June 15, 2006. The report will address the impact of Hurricane Katrina on communications infrastructure, including public safety communications, and recommendations for improving disaster preparedness, network reliability and communications among first responders. The Panel may take action on any of the issues raised during the meeting.

Members of the general public may attend the meeting. The FCC will attempt to accommodate as many people as possible. However, admittance will be limited to seating availability. Real Audio access to the meeting will be available at http://www.fcc.gov. Open captioning will be provided for this event. Other reasonable accommodations for people with disabilities are available upon request. To request accommodations, send an e-mail to fcc504@fcc.gov or call the Consumer & Governmental Affairs Bureau at 202-418-0530 (voice), 202-418-0432 (TTY). Include a description of the accommodation you will need with as much detail as possible. Also include a way we can contact you if we need more information. Please allow at least five days advance notice; last minute requests will be accepted, but may be impossible to fill.

The public may submit written comments before the meeting to: Lisa M. Fowlkes, the FCC's Designated Federal Officer for the Independent Panel by e-mail: lisa.fowlkes@fcc.gov or U.S. Postal Service Mail (Lisa M. Fowlkes, Designated Federal Officer, Hurricane Katrina Independent Panel, Federal Communications Commission, 445 12th Street, SW., Room 7-C737, Washington, DC 20554).

Further information regarding the Independent Panel, including publicly available documents, may be found at the Panel's Web site at http://www.fcc.gov/eb/hkip. In addition, publicly available documents related to the Panel are available for inspection and copying at the FCC's Public Reference Information Center, 445 12th Street, SW., Room CY-A257, Washington, DC.

Federal Communications Commission.
William F. Caton,
Deputy Secretary.

[FR Doc. E6-6267 Filed 4-25-06; 8:45 am]

BILLING CODE 6712-01-P